DEPARTMENT OF DEFENSE

Office of the Secretary

[Docket ID DOD-2021-OS-0037]

Proposed Collection; Comment Request

AGENCY: The Office of the Director of Administration and Management, Department of Defense (DoD).

ACTION: Information collection notice.

SUMMARY: In compliance with the Paperwork Reduction Act of 1995, the Pentagon Force Protection Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 16, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 9000 Defense Pentagon, 5B890 Washington, DC 20301, ATTN: Mr. Dajonte Holsey or call 703-571-2939.

SUPPLEMENTARY INFORMATION: Title; Associated Form; and OMB Number: Pentagon Facilities Access Control System; OMB Control Number 0704-AAFV.

Needs and Uses: The information will be used by the Pentagon Pass Office to conduct a NCIC check of all members of the public 18 years and older that request access to the Pentagon or a Pentagon facility. The method for collecting the required information varies depending on the status of the individual making the request and the length of time that access is required.

Affected Public: Individuals or households.

Annual Burden Hours: 24,617.

Number of Respondents: 211,000.

Responses per Respondent: 1.

Annual Responses: 211,000.

Average Burden per Response: 7 minutes.

Frequency: On occasion.

Dated: May 12, 2021.
Kayyonne T. Marston,
Alternate OSD Federal Register Liaison Officer, Department of Defense.

[FR Doc. 2021-10345 Filed 5-14-21; 8:45 am]

BILLING CODE 5001-06-P